ENVIRONMENTAL PROTECTION AGENCY

[FRL-7940-1]

Air Quality Criteria Document for Lead

AGENCY: Environmental Protection Agency.

ACTION: Notice of workshops.

SUMMARY: The U.S. Environmental Protection Agency (EPA) Office of Research and Development's National Center for Environmental Assessment (NCEA) is reviewing and, as appropriate, revising the EPA document, “Air Quality Criteria for Lead,” EPA-600/8-83/028aF-dF (published in June 1986) and an associated supplement (EPA-600/8-89/049F) published in 1990. As part of this process, several workshops are planned to discuss, with invited recognized scientific experts, initial draft materials that deal with various lead-related issues being addressed in the revised “Lead Air Quality Criteria Document” (Lead AQCD) now being prepared by NCEA.

DATES: The first workshop will be held during August 4-5, 2005, and will focus on lead-related ecological issues. Another workshop to be held August 16-18, 2005, will deal with sources, emissions, environmental distribution, human exposures, biokinetic modeling of lead exposure and uptake, and with biological distribution of lead to blood, bone, teeth and soft tissues. A third workshop, to be held August 17-19, 2005, will deal with lead-related health effects. All the workshops will be held at the Carolina Inn in Research Triangle Park, NC.

FOR FURTHER INFORMATION CONTACT: Space is limited at the workshops. Please contact Ms. Joanna Hannah at Science Applications International Corporation (SAIC), telephone: 443-402-9361, FAX: 443-402-9854, e-mail: HannahJ@SAIC-abingdon.com to register your attendance at the workshops. SAIC will provide details on the locations and times of each workshop.

For technical information, contact Robert Elias, PhD, NCEA, facsimile: 919-541-1818 or email: elias.robert@epa.gov.

SUPPLEMENTARY INFORMATION: Section 108(a) of the Clean Air Act directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *” Under section 109 of the Act, EPA is then to establish National Ambient Air Quality Standards (NAAQS) for each pollutant for which EPA has issued criteria. Section 109(d) of the Act subsequently requires periodic review and, if appropriate, revision of existing air quality criteria to reflect advances in scientific knowledge on the effects of the pollutant on public health and welfare. EPA is also to revise the NAAQS, if appropriate, based on the revised criteria.

Lead is one of six “criteria” pollutants for which EPA has established air quality criteria and NAAQS. On November 9, 2004 (69 FR 64926), EPA formally initiated its current review of the criteria and NAAQS for lead, requesting the submission of recent scientific information on specified topics. One of the next steps in this process was to prepare a project work plan for the revision of the existing Air Quality Criteria Document (AQCD) for lead and to provide for public review of that draft plan. Accordingly, a draft of EPA's “Project Work Plan for Revised Air Quality Criteria for Lead” (NCEA-R-1465) was released in January 2005 for public comment and was discussed by the Clean Air Science Advisory Committee (CASAC) via a publicly accessible March 28, 2005, teleconference consultation.

The purpose of these workshops announced in this notice is to obtain peer consultative discussion and feedback from a panel of invited experts with regard to the scope of issues addressed, completeness of coverage of available pertinent literature, scientific accuracy and appropriateness of the assessments of such literature, and the soundness of the interpretations and conclusions related to the evidence assessed in the initial draft materials being prepared for inclusion in the revised Lead AQCD. This includes evaluation of scientific research on environmental sources, transport, and distribution of ambient lead, human lead exposures and lead health effects, ecological impacts, and other impacts related to air quality as described in Section 108(a) of the Clean Air Act.

Dated: July 11, 2005.
Peter W. Preuss,
Director, National Center for Environmental Assessment.

[FR Doc. 05-14059 Filed 7-13-05; 1:24 pm]

BILLING CODE 6560-50-P